DEPARTMENT OF HOMELAND SECURITY

Coast Guard

DEPARTMENT OF TRANSPORTATION

Maritime Administration

[USCG-2004-17659]

Compass Port LLC Liquefied Natural Gas Deepwater Port License Application; Preparation of Environmental Impact Statement

AGENCY: Coast Guard, DHS; and Maritime Administration, DOT.

ACTION: Notice of intent; notice of public meeting; and request for public comments.

SUMMARY: The U.S. Coast Guard and the Maritime Administration announce that the Coast Guard intends to prepare an environmental impact statement as part of the environmental review of the license application for the proposed Compass Port deepwater port, to be located approximately 11 miles south of Dauphin Island, Alabama. Publication of this notice begins a public scoping process that will help determine the scope of issues to be addressed in the environmental impact statement and identify the significant environmental issues related to this license application. Finally, this notice solicits public involvement in the scoping process, and announces public meetings and a public comment period to facilitate that involvement.

DATES: The public meetings will be held July 12, 13, and 14, 2004, from 3 p.m. to 7 p.m. in Dauphin Island, Alabama, Mobile, Alabama, and Pascagoula, Mississippi, respectively. Each meeting will consist of an informational open house from 3 p.m. to 4:30 p.m. and a public scoping meeting from 5 p.m. to 7 p.m. Comments and related material must reach the docket on or before July 26, 2004.

ADDRESSES:

The Dauphin Island meetings will be held at:

Dauphin Island Chamber of Commerce, 402 La Vente Street, Dauphin Island, Alabama 36528, 251-861-5524.

The Mobile meetings will be held at:

Mobile Government Plaza, 205 Government Street, Mobile, Alabama 36644, 251-574-5058.

The Pascagoula meetings will be held at:

Jackson County Fairgrounds Fair Hall, 2902 Shortcut Road, Pascagoula, Mississippi 39567, 228-762-6043.

All meeting spaces will be wheelchair-accessible.

You need not attend the meetings in order to comment. You may also submit comments identified by docket number USCG-2004-17659 to the Docket Management Facility at the U.S. Department of Transportation. To avoid duplication, please use only one of the following methods:

(1) Electronically through the Web site for the Docket Management System, at http://dms.dot.gov.

(2) By mail to the Docket Management Facility, U.S. Department of Transportation, Room PL-401, 400 Seventh Street SW., Washington, DC 20590-0001.

(3) By fax to the Docket Management Facility at 202-493-2251.

(4) By delivery to Room PL-401 on the Plaza level of the Nassif Building, 400 Seventh Street SW., Washington, DC, from 9 a.m. to 5 p.m., Monday through Friday, except Federal holidays. The telephone number is 202-366-9329.

(5) By the Federal eRulemaking Portal at http://www.regulations.gov/.

The Docket Management Facility maintains the public docket for this notice. Comments and material received from the public will become part of this docket and will be available for inspection or copying in Room PL-401 on the Plaza level of the Nassif Building, 400 Seventh Street SW., Washington, DC, from 9 a.m. to 5 p.m. Monday through Friday, except Federal holidays. This docket may also be found on the Internet at http://dms.dot.gov.

FOR FURTHER INFORMATION CONTACT: If you have questions on the application, this notice, or the meetings, or if you want to be notified when the draft and final environmental impact statements become available, call Mr. Kenneth Smith at 202-267-0578, or email at KNSmith@comdt.uscg.mil. If you have questions on viewing or submitting material to the docket, call Ms. Andrea M. Jenkins, Program Manager, Docket Operations, telephone 202-366-0271.

SUPPLEMENTARY INFORMATION:

Scoping Meetings and Request for Comments

We seek public review of and comment on this license application, particularly with respect to the environmental review discussed in this notice. Public input on environmental concerns related to the application, suggested sources of relevant data, and suggested methods for environmental analysis are especially welcome.

The Coast Guard will hold informational open houses and scoping meetings for interested members of the public, as described under DATES and ADDRESSES. Meeting facilities are wheelchair accessible. If you need other special assistance in order to participate in these sessions (for example, sign language interpretation), please contact the person named in FOR FURTHER INFORMATION CONTACT, and we will try to make reasonable accommodation for your needs. We ask that you make such requests at least three (3) business days before the scheduled meeting. Include a contact person's name and telephone number, your specific need, and (for persons with hearing impairments) a TDD number.

If you submit comments or related material to the docket (see DATES and ADDRESSES), please make your comment as specific as possible and give us the reasons for each comment. If you mail or hand-deliver printed documents, please submit them unbound and in a format suitable for copying and electronic filing, no larger than 8½ by 11 inches. If you submit comments or material by mail and want confirmation that it has reached the facility, please enclose a stamped, self-addressed postcard or envelope. We will consider all comments and material received during the comment period. All comments received will be posted, without change, to http://dms.dot.gov/ and will include any personal information you have provided.

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov/.

Environmental Review

Deepwater ports for the transportation, storage, or further handling of oil or natural gas must be licensed in accordance with the Deepwater Port Act of 1974, as amended, 33 U.S.C. 1501 et seq. (“the Act”). The Coast Guard and the Maritime Administration (MARAD) jointly process applications for deepwater port licenses. A notice of application for a proposed Compass Port liquefied natural gas deepwater port, to be located in the Gulf of Mexico approximately 11 miles south of Dauphin Island, Alabama, was published in the Federal Register on May 20, 2004 (69 FR 29142). That notice contains a fuller description of the proposed deepwater port. In addition to information previously published in the Federal Register, the applicant has identified five locations as possible fabrication sites for the concrete Gravity Based Structures (GBS's) which would be used to contain the LNG storage tanks. The proposed locations are:

Big Bend Site, Freeport, TX;

Zachary Construction Site, Harbor Island, TX;

Gulf Marine Fabrications, Ingleside, TX;

Kiewit Construction Site, Ingleside, TX;

Port of Altamira, Mexico.

The complete application, including environmental documentation provided by the applicant, is available in the public docket (see “Viewing Comments and Dockets,” above).

The Act establishes a licensing process for proposed deepwater ports, and that process includes review of the proposed port's natural and human environmental impacts. Consistent with the DWPA, this environmental review must comply with the National Environmental Policy Act of 1969 (NEPA), 42 U.S.C. 4332, and with the following authorities: Coast Guard regulations in 33 CFR part 148, Council on Environmental Quality regulations in 40 CFR parts 1500-1508, DOT Order 5610.1C (Procedures for Considering Environmental Impacts), and Coast Guard Commandant's Instruction (COMDTINST) M16475.1D. Environmental review includes public involvement, and consultation with States deemed adjacent to the proposed port (in this case, Alabama and Mississippi). The Coast Guard is the lead agency for determining the required scope of environmental review, and in this case the Coast Guard has determined that an environmental impact statement (EIS) must be prepared. Therefore, we are publishing the notice of intent described in 40 CFR 1508.22, to announce our intention to prepare and consider an EIS, and to describe our proposed action and possible alternatives, describe the scoping process required by 40 CFR 1501.7, and provide contact information. Contact information is provided above, under FOR FURTHER INFORMATION CONTACT.

The proposed action requiring environmental review is the Federal licensing of the Compass Port deepwater port application. The alternatives to licensing approval are licensing with conditions (including conditions designed to mitigate environmental impact), and denying the application, which for purposes of environmental review is the “no-action” alternative.

Public scoping is an early and open process for determining the scope of issues to be addressed in an EIS and for identifying the significant issues related to a proposed action. The scoping process begins with publication of this notice, extends through the public comment period (see DATES), and ends when the Coast Guard completes the following actions:

• Invites the participation of Federal, State, and local agencies, any affected Indian tribe, the applicant, and other interested persons;

• Determines the actions, alternatives, and impacts described in 40 CFR 1508.25;

• Identifies and eliminates from detailed study those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises options provided in 40 CFR 1501.7(b).

Once the scoping process is complete, the Coast Guard will prepare a draft EIS, and we will publish a Federal Register notice announcing its public availability. If you want to be mailed or emailed the draft EIS notice of availability, please contact the person named in FOR FURTHER INFORMATION CONTACT. We will provide the public with an opportunity to review and comment on the draft EIS. After the Coast Guard considers those comments, we will prepare the final EIS and similarly announce its availability and solicit public review and comment.

Dated: June 21, 2004.
Howard L. Hime,
Acting Director of Standards, Marine Safety, Security, and Environmental Protection, U.S. Coast Guard.
Raymond R. Barberesi,
Director, Office of Ports and Domestic Shipping, U.S. Maritime Administration.

[FR Doc. 04-14455 Filed 6-22-04; 1:21 pm]

BILLING CODE 4910-15-P